DEPARTMENT OF AGRICULTURE

Commodity Credit Corporation

Public Hearing on New Entrant's 2003-Crop Cane Sugar Marketing Allocation

AGENCY: Commodity Credit Corporation, USDA.

ACTION: Notice of opportunity to request a public hearing.

SUMMARY: The Commodity Credit Corporation (CCC) is issuing this notice to advise sugarcane processors and growers that they may request a public hearing as a result of an application made by a new sugarcane processor, the Arizona Sugar Factory, L.L.C., for a cane-sugar allocation for the 2003 crop year.

DATES: CCC will conduct a hearing if one is requested by December 4, 2002. CCC will publicly announce details of the hearing if one is requested.

ADDRESSES: Please send hearing requests to Thomas Bickerton, Farm Service Agency, United States Department of Agriculture (USDA), Stop 0516, 1400 Independence Ave, SW., Washington, DC 20250-0540. Phone: (202) 720-6733. Fax: (202) 690-1480. e-mail: sugar@usda.gov.

FOR FURTHER INFORMATION CONTACT: Thomas Bickerton at (202) 720-6733.

SUPPLEMENTARY INFORMATION: The Arizona Sugar Factory, L.L.C., a new entrant, is requesting a 2003-crop year allocation of 10,000 short tons, raw value, and wants its allocation to increase to 50,000 short tons, raw value, for the 2005 crop. The new processor will be located in California, a mainland State which does not currently have a cane allotment. Section 359d(b)(1)(E) of the Agricultural Adjustment Act of 1938, as amended, authorizes CCC to provide a sugarcane processor, who begins processing after May 13, 2002, with an allocation that provides a fair, efficient, and equitable distribution of the allocations from the allotment for the State in which the processor is located. CCC would have to allot California a share of the overall cane allotment in order to accommodate the new entrant's allocation. The new California allotment would be subtracted, on a pro rata basis, from the allotments otherwise provided to each mainland State.

Signed in Washington, DC, on November 8, 2002.
James R. Little,
Executive Vice President, Commodity Credit Corporation.

[FR Doc. 02-29304 Filed 11-18-02; 8:45 am]

BILLING CODE 3410-05-P